DEPARTMENT OF ENERGY

Federal Energy Regulatory Commission

[Docket No. PF08-21-000]

Transcontinental Gas Pipe Line Corporation; Notice of Intent To Prepare an Environmental Assessment for the Proposed 85 North Expansion Project Request for Comments on Environmental Issues and Notice of Public Meetings and Public Site Visits

November 4, 2008.

The Federal Energy Regulatory Commission (FERC or Commission) is in the process of preparing an environmental assessment (EA) on the environmental impacts of the 85 North Expansion Project (85 North Project) involving the construction and operation of new underground natural gas pipeline looping ¹ and new and modified compressor stations proposed by Transcontinental Gas Pipe Line Corporation (Transco). The 85 North Project is under review in Docket No. PF08-21-000.

¹ A pipeline loop is a segment of pipeline immediately adjacent to an existing pipeline.

This Notice of Intent (NOI) explains the scoping process that will be used to gather input from the public and interested agencies on the Project. Your input will help determine which issues will be evaluated in the EA. Please note that the scoping period for this Project will close on December 5, 2008.

Comments on the Project may be submitted in written form or verbally. In lieu of, or in addition, to sending written comments, we also invite you to attend the public scoping meetings and public site visits that have been scheduled in the Project area during the week of November 17, 2008. Details on how to submit comments and additional details of the public scoping meetings are provided in the Public Participation section of this notice.

Although a formal application has not been filed, the FERC has already initiated its NEPA review under its pre-filing process. A pre-filing docket number has been assigned to the 85 North Project (PF08-21-000). The purpose of the pre-filing process is to encourage early involvement of interested stakeholders and to identify and resolve issues before an application is filed with the FERC.

This NOI is being sent to federal, state, and local government agencies; elected officials; affected landowners; environmental and public interest groups; Indian tribes and regional Native American organizations; commentors and other interested parties; and local libraries and newspapers. We ² encourage government representatives to notify their constituents of this proposed Project and encourage them to comment on their areas of concern.

² “We”, “us”, and “our” refer to the environmental staff of the Office of Energy Projects (OEP).

If you are a landowner receiving this notice, you may be contacted by a Transco representative about the acquisition of an easement to construct, operate, and maintain the proposed facilities. Transco would seek to negotiate a mutually acceptable agreement. However, if the Project is approved by the FERC, that approval conveys with it the right of federal eminent domain. Therefore, if easement negotiations fail to produce an agreement, and the Project is ultimately approved by the FERC, Transco could initiate condemnation proceedings in accordance with federal law.

A fact sheet prepared by the FERC entitled “An Interstate Natural Gas Facility on My Land? What Do I Need To Know?” is available for viewing on the FERC Internet Web site (http://www.ferc.gov/for-citizens/citizen-guides.asp). This fact sheet addresses a number of typically asked questions, including the use of eminent domain and how to participate in FERC's proceedings.

Summary of the Proposed Project

Transco has proposed to construct and operate an expansion of Transco's existing Main Line and associated structures with a maximum delivery capacity of 308,500 dekatherms per day. As shown in Appendix 1,³ the 85 North Project would be located in portions of Mississippi, Alabama, Georgia, South Carolina and North Carolina. Transco has proposed: Approximately 22 miles of 42-inch-diameter pipeline in 3 pipeline loop segments; 1 new Compressor Station; and modifications to 8 other compressor stations on the Transco Mainline.

³ The appendices referenced in this notice are not printed in the Federal Register, but they are being provided to all those who receive this notice in the mail. Copies of the NOI can be obtained from the Commission's Web site at the “eLibrary” link, from the Commission's Public Reference Room, or by calling (202) 502-8371. For instructions on connecting to eLibrary, refer to the end of this notice.

Location maps depicting the proposed facilities are attached to this NOI as Appendix 1.

Specifically, Transco proposes the following primary components for the 85 North Project:

• 22 miles of 42-inch diameter underground natural gas pipeline consisting of four segments:

➢ Coosa Loop: 4.39 miles of pipeline loop adjacent to Transco's Main line D in Coosa County, Alabama;

➢ Cowpens Loop: 9.39 miles of pipeline loop adjacent to Transco's Main Line C in Spartanburg and Cherokee Counties, South Carolina; and

➢ Iredell Loop: 8.24 miles of loop adjacent to Transco's Main Line C in Iredell and Rowan Counties, North Carolina.

• Construction and operation of the new 20,500 horsepower (hp) Compressor Station 135 in Anderson County, South Carolina;

• Installation of gas cooling facilities at Compressor Station 80 in Jones County, Mississippi;

• Uprate the existing turbine by 1,430 hp and rewheel two compressors at Compressor Station 90 in Marengo County, Alabama;

• Installation of one 42,000 hp electric motor-driven compressor unit, and abandon 4 existing engine-compressor units for a net increase of 16,000 hp at Compressor Station 100 in Chilton County, Alabama;

• Installation of 20,500 hp turbine-compressor unit at Compressor Station 110 in Randolph County, Alabama;

• Uprate the existing electric motor by 3,025 hp at Compressor Station 115 in Coweta County, Georgia;

• Uprate 2 turbines, and replace compressors at Compressor Station 125 in Walton County, Georgia;

• Install additional gas cooling facilities and modify valves at Compressor Station 150 in Iredell County, North Carolina;

• Minor compressor modifications at Station 155 in Davidson County, North Carolina.

The EA Process

The National Environmental Policy Act (NEPA) requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA we will discuss impacts that could occur as a result of the construction and operation of the proposed project under these general headings:

• Geology and soils.

• Water resources.

• Aquatic resources.

• Vegetation and wildlife.

• Threatened and endangered species.

• Land use, recreation, and visual resources.

• Cultural resources.

• Socioeconomics.

• Air quality and noise.

• Reliability and safety.

• Cumulative impacts.

We will also evaluate reasonable alternatives to the proposed project or portions of the project, and make recommendations on how to lessen or avoid impacts on the various resource areas.

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the Public Participation section.

Currently Identified Environmental Issues

We have already identified issues that we think deserve attention based on our previous experience with similar projects in the region. This preliminary list of issues, which is presented below, may be revised based on your comments and our continuing analyses specific to the 85 North Project.

• Potential for disturbance to residents along pipeline construction route, including noise, and aesthetics;

• Potential impacts of the pipeline on waterbodies and wetlands, including issues of erosion control;

• Potential air quality impacts due to increased emissions from compressor stations; and

• Potential noise and vibration impacts from compressor stations.

Public Participation

You can make a difference by providing us with your specific comments or concerns about the 85 North Project. Your comments should focus on the potential environmental effects, reasonable alternatives, and measures to avoid or lessen environmental impacts. The more specific your comments, the more useful they will be. To ensure that your comments are timely and properly recorded, please send in your comments so that they will be received in Washington, DC on or before December 5, 2008.

Comments on the proposed Project can be submitted to the FERC in written form or verbally at the public scoping meetings. For your convenience, there are three methods which you can use to submit your written comments to the Commission. In all instances please reference the Project docket number (PF08-21-000) with your submission. The three methods are:

(1) You may file your comments electronically by using the Quick Comment feature, which is located on the Commission's Internet Web site at http://www.ferc.gov under the link to Documents and Filings. A Quick Comment is an easy method for interested persons to submit text-only comments on a project;

(2) You may file your comments electronically by using the eFiling feature, which is located on the Commission's Internet Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing;” or

(3) You may file your comments via mail to the Commission by sending an original and two copies of your letter to: Kimberly D. Bose, Secretary, Federal Energy Regulatory Commission, 888 First St., NE., Room 1A, Washington, DC 20426.

Label one copy of the comments for the attention of Gas Branch 3, PJ-11.3.

The public scoping meetings and public site visits (dates, times, and locations listed below) are designed to provide another opportunity to offer comments on the proposed Project. Interested groups and individuals are encouraged to attend the meetings and to present comments on the environmental issues that they believe should be addressed in the EA. Please note that attendees at the site visit must obtain their own transportation.

A transcript of the scoping meetings will be generated so that your comments can be accurately recorded. There will be no official proceedings of the public site visits. All Scoping Meetings are scheduled to run from 7 to 9 p.m. The schedule for meetings and site visits are as follows:

Date | Location
Tuesday, November 18, Scoping Meeting, 7 to 9 p.m. CST | Best Western Horseshoe Inn, 3146 Highway 280, Alexander City, AL 35010.
Wednesday, November 19, Public Site Visit, 1 p.m. EST | Transco Compressor Station 125, 1001 James Huff Road, Monroe, GA 30656.
Thursday, November 20, Scoping Meeting, 7 to 9 p.m. EST | American Legion Post 28, 94 West Park Drive, Spartanburg, SC 29306.
Friday, November 21, Public Site Visit, 10 a.m. EST | Transco Compressor Station 150, 236 Transco Road, Mooresville, NC 28115.

The Commission encourages electronic filing of comments and has dedicated eFiling expert staff available to assist you at 202-502-8258 or efiling@ferc.gov.

Once Transco formally files its application with the Commission, you may want to become an “intervenor,” which is an official party to the proceeding. Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site. Please note that you may not request intervenor status at this time. You must wait until a formal application is filed with the Commission.

Environmental Mailing List

An effort is being made to send this notice to all individuals, organizations, and government entities interested in and/or potentially affected by the proposed project. This includes all landowners whose property may be used temporarily for project purposes, who have existing easements from the pipeline, or who own homes within distances defined in the Commission's regulations of certain aboveground facilities. By this notice we are also asking governmental agencies, especially those in Appendix 2, to express their interest in becoming cooperating agencies for the preparation of the EA.

If you do not want to send comments at this time but still want to remain on our mailing list, please return the Information Request (Appendix 3). If you do not return the Information Request, you will be taken off the mailing list.

Additional Information

Additional information about the Project is available from the Commission's Office of External Affairs at 1-866-208-FERC (3372), or on the FERC Internet Web site (http://www.ferc.gov) using the “eLibrary link.” Click on the eLibrary link, select “General Search” and enter the Project docket number, excluding the last three digits (i.e., PF08-21) in the “Docket Number” field. Be sure you have selected an appropriate date range. For assistance with eLibrary, the eLibrary helpline can be reached at 1-866-208-3676, TTY (202) 502-8659, or by e-mail at FERCOnlineSupport@ferc.gov. The eLibrary link on the FERC Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Public meetings or site visits will be posted on the Commission's calendar located at http://www.ferc.gov/EventCalendar/EventsList.aspx along with other related information.

Kimberly D. Bose,
Secretary.

[FR Doc. E8-26783 Filed 11-10-08; 8:45 am]

BILLING CODE 6717-01-P